DEPARTMENT OF THE INTERIOR

[FWS-R4-FHC-2017-N003; FVHC98220410150-XXX-FF04G01000]

Deepwater Horizon Oil Spill; Louisiana Trustee Implementation Group Final Restoration Plan #1: Restoration of Wetlands, Coastal, and Nearshore Habitats; Habitat Projects on Federally Managed Lands; and Birds

AGENCY: Department of the Interior.

ACTION: Notice of availability.

SUMMARY: In accordance with the Oil Pollution Act of 1990 (OPA), the National Environmental Policy Act (NEPA), the Consent Decree, and the Final Programmatic Damage Assessment Restoration Plan and Final Programmatic Environmental Impact Statement, the Federal and State natural resource trustee agencies for the Louisiana Trustee Implementation Group (Trustees) have approved the “Louisiana Trustee Implementation Group Final Restoration Plan #1: Restoration of Wetlands, Coastal, and Nearshore Habitats; Habitat Projects on Federally Managed Lands; and Birds” (Restoration Plan #1). The Trustees have selected to fund engineering and design activities for six projects intended to continue the process of restoring natural resources and services injured or lost as a result of the Deepwater Horizon oil spill, which occurred on or about April 20, 2010, in the Gulf of Mexico.

ADDRESSES: Obtaining Documents: You may download the “Louisiana Trustee Implementation Group Final Restoration Plan #1: Restoration of Wetlands, Coastal, and Nearshore Habitats, Habitat Projects on Federally Managed Lands; and Birds” at any of the following sites:

• http://www.gulfspillrestoration.noaa.gov.

• http://www.doi.gov/deepwaterhorizon.

• http://la-dwh.com.

Alternatively, you may request a CD of the Final Restoration Plan # 1 (see FOR FURTHER INFORMATION CONTACT). You may also view the document at any of the public facilities listed at http://www.gulfspillrestoration.noaa.gov.

FOR FURTHER INFORMATION CONTACT: Liz Williams, at LATIG@la.gov.

SUPPLEMENTARY INFORMATION:

Introduction

On or about April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest oil spill in U.S. history, discharging millions of barrels of oil over a period of 87 days. In addition, well over 1 million gallons of dispersants were applied to the waters of the spill area in an attempt to disperse the spilled oil. An undetermined amount of natural gas was also released into the environment as a result of the spill.

The Deepwater Horizon State and Federal natural resource trustees (Trustees) conducted the natural resource damage assessment (NRDA) for the Deepwater Horizon oil spill under the Oil Pollution Act 1990 (OPA; 33 U.S.C. 2701 et seq.). Pursuant to OPA, Federal and State agencies act as trustees on behalf of the public to assess natural resource injuries and losses and determine actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority (CPRA), Oil Spill Coordinator's Office (LOSCO), Department of Environmental Quality (LDEQ), Department of Wildlife and Fisheries (LDWF), and Department of Natural Resources (LDNR);

• State of Mississippi Department of Environmental Quality;

• State of Alabama Department of Conservation and Natural Resources and Geological Survey of Alabama;

• State of Florida Department of Environmental Protection and Fish and Wildlife Conservation Commission; and

• For the State of Texas: Texas Parks and Wildlife Department, Texas General Land Office, and Texas Commission on Environmental Quality.

Upon completion of the NRDA, the Trustees reached and finalized a settlement of their natural resource damage claims with BP in a Consent Decree approved by the United States District Court for the Eastern District of Louisiana. Pursuant to that Consent Decree, restoration projects in Louisiana are now chosen and managed by the Louisiana Trustee Implementation Group (TIG). The TIG Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• Louisiana Coastal Protection and Restoration Authority (CPRA);

• Louisiana Department of Natural Resources (LDNR);

• Louisiana Department of Environmental Quality (LDEQ);

• Louisiana Oil Spill Coordinator's Office (LOSCO); and

• Louisiana Department of Wildlife and Fisheries (LDWF).

A notice of availability of the Draft Restoration Plan #1: Restoration of Wetlands, Coastal, and Nearshore Habitats; Habitat Projects on Federally Managed Lands; and Birds was published in the Federal Register on November 1, 2016 (81 FR 75840). The public was provided with a period to review and comment on the Draft Restoration Plan, from October 20 through December 9, 2016, and a public meeting was held on November 30, 2016, in Baton Rouge, Louisiana. The Louisiana TIG considered the public comments received, which informed the TIG's analyses and selection of the restoration alternatives in the Restoration Plan #1. A summary of the public comments received, and the Louisiana TIG's responses to those comments, are addressed in chapter 5 of the Restoration Plan #1.

Overview of the “Louisiana Trustee Implementation Group Final Restoration Plan #1: Restoration of Wetlands, Coastal, and Nearshore Habitats; Habitat Projects on Federally Managed Lands; and Birds” (Restoration Plan #1)

For selected restoration alternatives in this Restoration Plan #1, the Louisiana TIG may, after completion of the engineering and design process discussed in this plan, propose some or all of those projects for construction using Deepwater Horizon NRDA funds. Projects selected for construction funding would then be evaluated further under NEPA and OPA in a future Draft Restoration Plan, which would be provided to the public for review and comment in accordance with the appropriate Louisiana and Federal laws.

The total estimated cost for the engineering and design activities for the six restoration projects is $22,300,000. Details on the engineering and design activities for these projects are provided in the Restoration Plan #1.

Administrative Record

The documents comprising the Administrative Record for this Restoration Plan can be viewed electronically at https://www.doi.gov/deepwaterhorizon.

Authority

The authority of this action is the Oil Pollution Act of 1990 (33 U.S.C. 2701 et seq.) and the implementing Natural Resource Damage Assessment regulations found at 15 CFR 990.

Kevin D. Reynolds,
Deepwater Horizon NRDAR Case Manager, Department of the Interior.

[FR Doc. 2017-00999 Filed 1-19-17; 8:45 am]

BILLING CODE 4333-15-P